ENVIRONMENTAL PROTECTION AGENCY

[FRL-7250-3]

Notice of Availability of List of Impaired Waters Prepared by the Commonwealth of Virginia Under the Clean Water Act

AGENCY: Environmental Protection Agency (EPA).

ACTION: Notice of availability.

SUMMARY: On July 15, 2002, the Commonwealth of Virginia published a notice announcing that it was making available for public comment its proposed “2002 303(d) Report on Impaired Waters.” The Department of Environmental Quality (DEQ) of the Commonwealth of Virginia prepared this proposed report pursuant to section 303(d)(1)(A) of the Clean Water Act (CWA), 33 U.S.C. 1313(d)(1)(A), and implementing regulations at 40 CFR 130.7(b). The purpose of today's notice is to provide additional notice to the public of the availability of that proposed report. On July 15, 2002, the Virginia Department of Environmental Quality also announced the availability of its 2002 “305(b) Water Quality Assessment.”

DATES: Comments on both reports should be sent by midnight August 16, 2002 to the Virginia Department of Environmental Quality. In addition, the Virginia Department of Environmental Quality will hold public information meetings regarding the 303(d) and 305(b) reports on July 29, July 31, and August 1, 2002.

ADDRESSES: Submit written comments to Mr. Darryl M. Glover, DEQ Water Quality Monitoring and Assessment Manager, at P.O. Box 10009, Richmond, Virginia 23240-0009, or via e-mail to dmglover@deq.state.va.us. Please include your name, (US mail) address, and telephone number.

The public information meetings will be held as follows:

• July 29th, 2 p.m.-3:30 p.m.—DEQ West Central Regional Office, 3019 Peters Creek Road in Roanoke. For directions please call (540) 562-6700.

• July 31st, 1:30 p.m.-3 p.m.—DEQ Northern Va. Regional Office, 13901 Crown Court in Woodbridge. For directions please call (703) 583-3800.

• August 1st, 1:30 p.m.-3 p.m.—DEQ Piedmont Regional Office, 4949-A Cox Road in Glen Allen. For directions please call (804) 527-5020.

FOR FURTHER INFORMATION CONTACT: The Virginia 2002 303(d) Report on Impaired Waters is available for download at http://www.deq.state.va.us/water/303d.html throughout the public comment period, which ends on August 16, 2002. A hard copy will be made available upon request by phoning Diana Baumann at (804) 698-4310. In the United States Environmental Protection Agency, contact Mr. Thomas Henry at (215) 814-5752.

SUPPLEMENTARY INFORMATION: The purpose of Virginia's proposed 303(d) list is to identify waters in the Commonwealth of Virginia for which Total Maximum Daily Loads (TMDLs) under CWA Section 303(d) need to be developed. The proposed report identifies waters as impaired if they do not support, or only partially support, one or more of five designated uses (i.e., aquatic life, fish consumption, shellfish consumption, swimming, and drinking water). Support of the designated uses is based on attainment of Virginia's water quality standards, which include numeric and narrative criteria. Attainment is determined by the assessment of all available monitoring data and water quality information.

EPA is providing this notice in compliance with Paragraph 4(b) of the consent degree entered in the case of American Canoe Assoc., et al. v. EPA, Civil Action No. 98-979A, on June 11, 1999.

Jon M. Capacasa,
Acting Division Director, Water Protection Division, EPA, Region III.

[FR Doc. 02-18583 Filed 7-23-02; 8:45 am]

BILLING CODE 6560-50-P